DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: October 25-26, 2010.

Place: Atlanta Airport Marriott Gateway, 2020 Convention Center Concourse, Atlanta, GA 30337.

Time: 3 p.m. to 6:15 p.m. (October 25, 2010). 8:30 a.m. to 3 p.m. (October 26, 2010).

FOR FURTHER INFORMATION CONTACT: Inquiries and notice of intent to attend the meeting may be addressed to COL Gary E. Johnston, Executive Secretary, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The afternoon of October 25, the Executive Session is devoted to (1) Review old business; (2) continue a climate change dialogue from the previous Board meeting; and (3) hear and discuss a presentation concerning IOOS.

On Tuesday, October 26, there will be (1) An Engineer Research and Development Center update on the oil spill response; (2) updates on coastal engineering oriented research and development activities to include navigation, flood and coastal, and environmental; (3) discussion of the Board on Coastal Engineering Research and the Environmental Advisory Board; (4) discussion of Regional Sediment Management including the history, the program, and policy; and (5) discussion of the next full meeting.

The meeting is open to the public, but since seating capacity of the meeting room is limited, advance notice of intent to attend is required.

Gary E. Johnston,
Colonel, Corps of Engineers, Executive Secretary.

[FR Doc. 2010-25354 Filed 10-6-10; 8:45 am]

BILLING CODE 3720-58-P